NATIONAL AERONAUTICS AND SPACE ADMINISTRATION

14 CFR Part 1212

[Document Number NASA-2012-0005]

RIN 2700-AD86

Update of Existing Privacy Act—NASA Regulations

AGENCY: National Aeronautics and Space Administration.

ACTION: Correcting amendments.

SUMMARY: This document contains corrections to the final regulations (NASA-2012-0005), which were published in the Federal Register of Thursday, October 4, 2012 (77 FR 60620). The regulations relate to requests to access individual Privacy Act records.

DATES: Effective February 7, 2013.

FOR FURTHER INFORMATION CONTACT: Nanette Jennings, 202-358-0819.

SUPPLEMENTARY INFORMATION:

Background

NASA's final regulations that published in the Federal Register of October 4, 2012 [77 FR 60622] inadvertently omits the responsibility of NASA's Freedom of Information Act (FOIA) Office that processes requests for individual records. An individual's access request for his/her own record maintained in a system of records are processed by NASA's Privacy Act Office and FOIA Office staff. Therefore, this correction adds responsibility of the FOIA Office. This corrections also corrects the title to § 1212.201 and terms that were missed in the initial publication.

Need for Correction

As published, the final regulations contain omissions, an incorrect section title and terms which may prove to be misleading and need to be clarified.

List of Subjects in 14 CFR Part 1212

Freedom of information, Privacy.

Accordingly, 14 CFR part 1212 is corrected by making the following correcting amendments:

PART 1212—PRIVACY ACT—NASA REGULATIONS

1. The authority citation for part 1212 is revised to read as follows:

Authority: The National Aeronautics and Space Act, as amended, 51 U.S.C. 20101 et seq.; the Privacy Act of 1974, as amended, 88 Stat. 1896, 5 U.S.C. 552a.

2. Revise the heading of § 1212.201 and paragraph (c)(1), redesignate paragraph (f) as paragraph (g), and add a new paragraph (f) to read as follows:

§ 1212.201 Requesting a record.

* * * * *

(c) * * *

(1) Requests must be directed to the appropriate system manager, or, if unknown, to the Center Privacy Manager or Freedom of Information Act (FOIA) Office at NASA Headquarters or Field Center. The request should be identified clearly on the envelope and on the letter as a “Request Under the Privacy Act.”

* * * * *

(f) If the Center FOIA Office receives a first party request for records or access, the FOIA Office will process the request under the Privacy Act pursuant to this part.

* * * * *

§ 1212.704 [Corrected]

3. In paragraph (a) remove the word “Installations” and add in its place the word “Centers” and remove the words “Component Centers” and add in its place the words “Component Facilities.”

Nanette Jennings,
NASA Federal Register Liaison Officer.

[FR Doc. 2013-02778 Filed 2-6-13; 8:45 am]

BILLING CODE 7510-13-P